DEPARTMENT OF LABOR

Employment and Training Administration

[TA-W-65,223]

Allegheny Ludlum Corporation, Midland, PA; Notice of Termination of Investigation

Pursuant to Section 221 of the Trade Act of 1974, as amended, an investigation was initiated on February 11, 2009 in response to a petition filed by the United Steelworkers of America, Local 1212 on behalf of workers of Allegheny Ludlum Corporation, Midland, Pennsylvania.

The petitioner has requested that the petition be withdrawn. Therefore, the investigation under this petition has been terminated.

Signed at Washington, DC, this 26th day of March 2009.
Linda G. Poole,
Certifying Officer, Division of Trade Adjustment Assistance.

[FR Doc. E9-8919 Filed 4-17-09; 8:45 am]

BILLING CODE 4510-FN-P